DEPARTMENT OF DEFENSE

Department of the Army

Availability for Non-Exclusive, Exclusive, or Partially Exclusive Licensing of U.S. Patent Concerning a Device and Method for Determining All Components of the Stokes Polarization Vector Within a Radar Signal

AGENCY: Department of the Army, DoD.

ACTION: Notice.

SUMMARY: In accordance with 37 CFR 404.6 and 404.7, announcement is made of the availability for licensing of the invention set forth in U.S. Patent No. 6,762,713 entitled “A Device and Method for Determining All Components of the Stokes Polarization Vector within a Radar Signal,” issued on July 13, 2004. The United States Government, as represented by the Secretary of the Army, has rights in this invention.

ADDRESSES: Office of Research and Technology Applications, SDMC-RDT-TL (Ms. Susan D. McRae), Bldg. 5220, Von Braun Complex, Redstone Arsenal, AL 35898.

FOR FURTHER INFORMATION CONTACT: Ms. Joan Gilsdorf, Patent Attorney, e-mail: joan.gilsdorf@smdc.army.mil (256) 955-3213 or Ms. Susan D. McRae, Office of Research and Technology Applications, e-mail: susan.mcrae@smdc.army.mil; (256) 955-1501.

SUPPLEMENTARY INFORMATION: The invention pertains to measuring the polarization state of a wideband electromagnetic signal. A polarimeter includes a first antenna for receiving the electromagnetic signal and a modulator. The modulator is interconnected with the first antenna for modulating the electromagnetic signal. A modulated electromagnetic signal results that contains a different polarization state for each frequency of the electromagnetic signal, and wherein the amplitude of each frequency component of the modulated electromagnetic signal is a function of the particular polarization state of each frequency component of the electromagnetic signal. The modulator may be configured to modulate at a radar frequency. A linear polarizer passes a first predetermined polarization of the modulated electromagnetic signal through a first output thereof. A first receiver includes a detector for receiving and demodulating the modulated electromagnetic signal from the linear polarizer.

Brenda S. Bowen,
Army Federal Register Liaison Officer.

[FR Doc. E7-23644 Filed 12-5-07; 8:45 am]

BILLING CODE 3710-08-P